DEPARTMENT OF DEFENSE

GENERAL SERVICES ADMINISTRATION

NATIONAL AERONAUTICS AND SPACE ADMINISTRATION

[OMB Control No. 9000-0079; Docket No. 2018-0003; Sequence No. 14]

Submission for OMB Review; Travel Costs

AGENCY: Department of Defense (DOD), General Services Administration (GSA), and National Aeronautics and Space Administration (NASA).

ACTION: Notice.

SUMMARY: Under the provisions of the Paperwork Reduction Act, the Regulatory Secretariat Division will be submitting to the Office of Management and Budget (OMB) a request to review and approve an extension of a previously approved information collection requirement regarding travel costs.

DATES: Submit comments on or before November 26, 2018.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0079, Travel Costs.

Instructions: Please submit comments only and cite Information Collection 9000-0079, Travel Costs, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Zenaida Delgado, Procurement Analyst, at telephone 202-969-7207, or email zenaida.delgado@gsa.gov.

SUPPLEMENTARY INFORMATION:

A. Purpose

This information collection requirement, OMB Control No. 9000-0079, currently titled “Corporate Aircraft Costs,” is proposed to be retitled “Travel Costs,” due to consolidation with currently approved information collection requirement OMB Control No. 9000-0088, Travel Costs.

This information collection requirement pertains to information that a contractor must submit in response to the requirements in FAR 31.205-46:

1. FAR 31.205-46(a)(3)—In special or unusual situations, costs incurred by a contractor for lodging, meals, and incidental expenses, may exceed on a daily basis the per diem rates in effect as set forth in the Federal Travel Regulation (FTR) for travel in the conterminous 48 United States. The actual costs may be allowed only if the contractor provides the following:

a. FAR 31.205-46(a)(3)(ii)—A written justification for use of the higher amounts approved by an officer of the contractor's organization or designee to ensure that the authority is properly administered and controlled to prevent abuse.

b. FAR 31.205-46(a)(3)(iii)—Advance approval from the contracting officer if it becomes necessary to exercise the authority to use the higher actual expense method repetitively or on a continuing basis in a particular area.

c. FAR 31.205-46(a)(3)(iv)—Documentation to support actual costs incurred including a receipt for each expenditure of $75.00 or more.

2. FAR 31.205-46(c) requires firms to maintain and make available manifest/logs for all flights on company aircraft. As a minimum, the manifest/log must indicate:

a. Date, time, and points of departure;

b. Destination, date, and time of arrival;

c. Name of each passenger and relationship to the contractor;

d. Authorization for trip; and

e. Purpose of trip.

The information required by (a) and (b) and the name of each passenger (required by (c)) are recordkeeping requirements already established by Federal Aviation Administration regulations. This information, plus the additional required information, is needed to ensure that costs of owned, chartered, or leased aircraft are properly charged against Government contracts and that directly associated costs of unallowable activities are not charged to Government contracts.

B. Public Comment

A 60 day notice was published in the Federal Register at 83 FR 38312, on August 6, 2018. No comments were received.

C. Annual Reporting Burden

DoD, GSA and NASA analyzed the FY 2017 data from the Federal Procurement Data System (FPDS) to develop the estimated burden hours for this information collection.

1. FAR 31.205-46(a)(3)—Actual travel costs.

Respondents: 3,247.

Responses per Respondent: 10.

Total Annual Responses: 32,470.

Hours per Response: 0.25.

Total Burden Hours: 8,118.

2. FAR 31.205-46(c)—Manifest/logs for flights on company aircraft.

Number of Recordkeepers: 797.

Records per Recordkeeper per Year: 3.

Total Annual Records: 2,391.

Estimated Hours per Record: 2.0.

Total Recordkeeping Burden Hours: 4,782.

3. Total (counting recordkeepers with respondents).

Recordkeepers and Respondents: 4,044.

Responses: 34,861.

Hours (Reporting and Recordkeeping): 12,900.

Affected Public: Businesses or other for-profit and not-for-profit institutions.

Obtaining Copies: Requesters may obtain a copy of the information collection documents from the General Services Administration, Regulatory Secretariat Division (MVCB), 1800 F Street NW, Washington, DC 20405, telephone 202-501-4755.

Please cite OMB Control No. 9000-0079, Travel Costs, in all correspondence.

Dated: October 18, 2018.
Janet Fry,
Director, Federal Acquisition Policy Division, Office of Governmentwide Acquisition Policy, Office of Acquisition Policy, Office of Governmentwide Policy.

[FR Doc. 2018-23353 Filed 10-24-18; 8:45 am]

BILLING CODE 6820-EP-P